DEPARTMENT OF ENERGY

Federal Energy Regulatory Commission

Combined Notice of Filings #1

Take notice that the Commission received the following electric corporate filings:

Docket Numbers: EC21-93-000.

Applicants: Pavant Solar II LLC, PSEG Power Ventures LLC, Quattro Solar, LLC.

Description: Application for Authorization Under Section 203 of the Federal Power Act of Pavant Solar II LLC, et al.

Filed Date: 5/11/21.

Accession Number: 20210511-5159.

Comments Due: 5 p.m. ET 6/1/21.

Take notice that the Commission received the following exempt wholesale generator filings:

Docket Numbers: EG21-141-000.

Applicants: Farmington Solar, LLC.

Description: Notice of Self-Certification of Exempt Wholesale Generator Status of Farmington Solar, LLC.

Filed Date: 5/11/21.

Accession Number: 20210511-5122.

Comments Due: 5 p.m. ET 6/1/21.

Take notice that the Commission received the following electric rate filings:

Docket Numbers: ER16-2412-007.

Applicants: Luning Energy Holdings LLC.

Description: Triennial Market Power Analysis for Northwest Region of Luning Energy, LLC.

Filed Date: 5/11/21.

Accession Number: 20210511-5160.

Comments Due: 5 p.m. ET 7/12/21.

Docket Numbers: ER21-1620-001.

Applicants: Arizona Solar One LLC.

Description: Compliance filing: Arizona Solar Supplemental MBR Tariff Filing to be effective 4/6/2021.

Filed Date: 5/12/21.

Accession Number: 20210512-5064.

Comments Due: 5 p.m. ET 6/2/21.

Docket Numbers: ER21-1621-001.

Applicants: Mojave Solar LLC.

Description: Compliance filing: Mojave Solar Supplemental MBR Tariff Filing to be effective 4/6/2021.

Filed Date: 5/12/21.

Accession Number: 20210512-5065.

Comments Due: 5 p.m. ET 6/2/21.

Docket Numbers: ER21-1876-000.

Applicants: Ingenco Wholesale Power, L.L.C.

Description: Request for Waiver, et al. of Ingenco Wholesale Power, L.L.C.

Filed Date: 5/7/21.

Accession Number: 20210507-5235.

Comments Due: 5 p.m. ET 5/28/21.

Docket Numbers: ER21-1884-000.

Applicants: Midcontinent Independent System Operator, Inc., American Transmission Company LLC.

Description: § 205(d) Rate Filing: 2021-05-12_SA 2766 ATC-City of Elkhorn 1st Rev CFA to be effective 6/15/2021.

Filed Date: 5/12/21.

Accession Number: 20210512-5028.

Comments Due: 5 p.m. ET 6/2/21.

Docket Numbers: ER21-1885-000.

Applicants: Southern California Edison Company.

Description: Tariff Cancellation: Notice of Termination of SA Nos. 423-424 Irvine Ranch Water District to be effective 5/24/2021.

Filed Date: 5/12/21.

Accession Number: 20210512-5106.

Comments Due: 5 p.m. ET 6/2/21.

Docket Numbers: ER21-1886-000.

Applicants: Luminant Commercial Asset Management LLC.

Description: § 205(d) Rate Filing: Notices of Succession and Revisions to Tariffs to be effective 4/16/2021.

Filed Date: 5/12/21.

Accession Number: 20210512-5130.

Comments Due: 5 p.m. ET 6/2/21.

Docket Numbers: ER21-1887-000.

Applicants: Dicks Creek Power Company LLC.

Description: § 205(d) Rate Filing: Notices of Succession and Revisions to Tariffs to be effective 4/16/2021.

Filed Date: 5/12/21.

Accession Number: 20210512-5134.

Comments Due: 5 p.m. ET 6/2/21.

Docket Numbers: ER21-1888-000.

Applicants: Hanging Rock Power Company LLC.

Description: § 205(d) Rate Filing: Notices of Succession and Revisions to Tariffs to be effective 4/16/2021.

Filed Date: 5/12/21.

Accession Number: 20210512-5136.

Comments Due: 5 p.m. ET 6/2/21.

Docket Numbers: ER21-1889-000.

Applicants: Kendall Power Company LLC.

Description: § 205(d) Rate Filing: Notices of Succession and Revisions to Tariffs to be effective 4/16/2021.

Filed Date: 5/12/21.

Accession Number: 20210512-5137.

Comments Due: 5 p.m. ET 6/2/21.

Docket Numbers: ER21-1890-000.

Applicants: Miami Fort Power Company LLC.

Description: § 205(d) Rate Filing: Notices of Succession and Revisions to Tariffs to be effective 4/16/2021.

Filed Date: 5/12/21.

Accession Number: 20210512-5140.

Comments Due: 5 p.m. ET 6/2/21.

Docket Numbers: ER21-1891-000.

Applicants: Washington Power Generation LLC.

Description: § 205(d) Rate Filing: Notices of Succession and Revisions to Tariffs to be effective 4/16/2021.

Filed Date: 5/12/21.

Accession Number: 20210512-5141.

Comments Due: 5 p.m. ET 6/2/21.

Docket Numbers: ER21-1892-000.

Applicants: Zimmer Power Company LLC.

Description: § 205(d) Rate Filing: Notices of Succession and Revisions to Tariffs to be effective 4/16/2021.

Filed Date: 5/12/21.

Accession Number: 20210512-5143.

Comments Due: 5 p.m. ET 6/2/21.

Docket Numbers: ER21-1893-000.

Applicants: Fayette Power Company LLC.

Description: § 205(d) Rate Filing: Notices of Succession and Revisions to Tariffs to be effective 4/16/2021.

Filed Date: 5/12/21.

Accession Number: 20210512-5144.

Comments Due: 5 p.m. ET 6/2/21.

Docket Numbers: ER21-1894-000.

Applicants: Bellingham Power Generation LLC.

Description: § 205(d) Rate Filing: Notices of Succession and Revisions to Tariffs to be effective 4/16/2021.

Filed Date: 5/12/21.

Accession Number: 20210512-5145.

Comments Due: 5 p.m. ET 6/2/21.

Docket Numbers: ER21-1895-000.

Applicants: Blackstone Power Generation LLC.

Description: § 205(d) Rate Filing: Notices of Succession and Revisions to Tariffs to be effective 4/16/2021.

Filed Date: 5/12/21.

Accession Number: 20210512-5148.

Comments Due: 5 p.m. ET 6/2/21.

Docket Numbers: ER21-1896-000.

Applicants: Midcontinent Independent System Operator, Inc.

Description: § 205(d) Rate Filing: 2021-05-12_Att X Contingent Facilities Study Requirements Filing to be effective 7/12/2021.

Filed Date: 5/12/21.

Accession Number: 20210512-5196.

Comments Due: 5 p.m. ET 6/2/21.

Docket Numbers: ER21-1897-000.

Applicants: Commonwealth Edison Company, PJM Interconnection, L.L.C.

Description: § 205(d) Rate Filing: ComEd submits POI Transmission Upgrade Agreement, SA No. 1404 to be effective 5/12/2021.

Filed Date: 5/12/21.

Accession Number: 20210512-5200.

Comments Due: 5 p.m. ET 6/2/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 12, 2021.
Debbie-Anne A. Reese,
Deputy Secretary.

[FR Doc. 2021-10419 Filed 5-17-21; 8:45 am]

BILLING CODE 6717-01-P